DEPARTMENT OF HOUSING AND URBAN DEVELOPMENT

[Docket No. FR-5100-FA-11]

Announcement of Funding Awards for Fiscal Year 2007 Tribal Colleges and Universities Program

AGENCY: Office of the Assistant Secretary for Policy Development and Research, HUD.

ACTION: Announcement of funding awards.

SUMMARY: In accordance with section 102 (a)(4)(C) of the Department of Housing and Urban Development Reform Act of 1989, this document notifies the public of funding awards for Fiscal Year (FY) 2007 Tribal Colleges and Universities Program (TCUP). The purpose of this document is to announce the names and addresses of the award winners and the amount of the awards which are to be used to enable Tribal Colleges and Universities (TCU) to build, expand, renovate, and equip their own facilities, and expand the role of the TCUs into the community through the provision of needed services such as health programs, job training, and economic development activities.

FOR FURTHER INFORMATION CONTACT: Susan Brunson, Office of University Partnerships, Department of Housing and Urban Development, 451 Seventh Street, SW., Room 8106, Washington, DC 20410, telephone (202) 402-3852. To provide service for persons who are hearing-or-speech-impaired, this number may be reached via TTY by Dialing the Federal Information Relay Service on (800) 877-8339 or (202) 708-1455 (Telephone number, other than “800” TTY numbers are not toll free).

SUPPLEMENTARY INFORMATION: The Tribal Colleges and Universities Program was approved by Congress under the Revised Continuing Appropriations Resolution, 2007 and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Tribal Colleges and Universities Program assist tribal colleges and universities to build, expand, renovate, and equip their own facilities, and expand the role of the TCUs into the community through the provision of needed services such as health programs, job training, and economic development activities.

The Catalog Federal Domestic Assistance number for this program is 14.519.

On March 13, 2007 (72 FR 11497), HUD published a Notice of Funding Availability (NOFA) announcing the availability of $2.57 million in Fiscal Year (FY) 2007, plus an additional $217,190 that was carried over from the last year's competition making a total of $2,791,190 available for funding the Tribal Colleges and Universities Program. The Department reviewed, evaluated and scored the applications received based on the criteria in the NOFA. As a result, HUD funded five applications.

The Department reviewed, evaluated, and scored the applications received based on the criteria in the NOFA. As a result, HUD has funded the applications below, in accordance with section 102(a)(4)(C) of the Department of Housing and Urban Development Reform Act of 1989 (103 Stat. 1987, 42 U.S.C. 3545).

List of Awardees for Grant Assistance Under the FY 2007 Tribal Colleges and Universities Program Funding Competition, By Institution, Address, and Grant Amount

Region VI

1. Institute of American Indian Arts, Mrs. Laurie Logan Brayshaw, Institute of American Indian Arts, 83 Avan Nu Po Road, Santa Fe, NM 87508. Grant: $600,000.

Region VIII

2. Sitting Bull College, Ms. Koreen Ressler, Sitting Bull College, 1341 92nd Street, Fort Yates, ND 58538. Grant: $600,000.

3. Cankdeska Cikana Community College, Mr. Harold McCowan, Candeska Cikana Community College, P.O. Box 269, Fort Totten, ND 58335. Grant: $599,309.

4. Fort Berthold Community College, Mr. Keith Smith, Fort Berthold Community College, 220 8th Avenue, North, P.O. Box, 490, New Town, ND 58763. Grant: $391,881.

5. Oglala Lakota College, Ms. Arlene Quist, Oglala Lakota College, 490 Piya Wiconi Road, Kyle, SD 57752. Grant: $600,000.

Dated: August 28, 2007.
Darlene F. Williams,
Assistant Secretary for Policy, Development and Research.

[FR Doc. E7-17381 Filed 8-31-07; 8:45 am]

BILLING CODE 4210-67-P